DEPARTMENT OF COMMERCE

International Trade Administration

[A-533-871]

Finished Carbon Steel Flanges From India: Final Results of Changed Circumstances Review

AGENCY: Enforcement and Compliance, International Trade Administration, Department of Commerce.

SUMMARY: On June 6, 2022, the U.S. Department of Commerce (Commerce) published its notice of initiation and preliminary results of a changed circumstances review (CCR) of the antidumping duty (AD) order on finished carbon steel flanges (flanges) from India. For these final results, Commerce finds that BFN Forgings Private Limited (BFN) is the successor-in-interest to Bebitz Flanges Works Private Limited (Bebitz) and should be assigned the same AD cash deposit rate for purposes of determining AD liability.

DATES: Applicable July 26, 2022.

FOR FURTHER INFORMATION CONTACT: James R. Hepburn or Fred Baker, AD/CVD Operations, Office VI, Enforcement and Compliance, International Trade Administration, U.S. Department of Commerce, 1401 Constitution Avenue NW, Washington, DC 20230; telephone: (202) 482-4885 or (202) 482-2924, respectively.

SUPPLEMENTARY INFORMATION:

Background

On April 14, 2022, BFN requested that Commerce conduct an expedited CCR of the AD order on flanges from India ¹ to find that BFN is the successor-in-interest to Bebitz.² On June 6, 2022, Commerce initiated a CCR and preliminarily determined that BFN is the successor-in-interest to Bebitz.³ In the Initiation and Preliminary Results, we provided all interested parties with an opportunity to comment.⁴ We received no comments from any interested party.

¹ See Finished Carbon Steel Flanges from India and Italy: Antidumping Duty Orders, 82 FR 40136 (August 24, 2017) (Order).

² See BFN's Letter, “Finished Carbon Steel Flanges from India: Request for an Expedited Successor-in-Interest Changed Circumstances Review,” dated April 14, 2022.

³ See Finished Carbon Steel Flanges from India: Notice of Initiation and Preliminary Results of Changed Circumstances Review, 87 FR 34251 (June 6, 2022) (Initiation and Preliminary Results), and accompanying Preliminary Decision Memorandum (PDM).

⁴ Id., 87 FR at 34252.

Scope of the Order

The merchandise covered by the Order is flanges from India. The merchandise subject to the Order is currently classified under subheadings 7307.91.5010 and 7307.91.5050 of the Harmonized Tariff Schedule of the United States (HTSUS). They may also be entered under HTSUS subheadings 7307.91.5030 and 7307.91.5070. The HTSUS subheadings are provided for convenience and customs purposes; the written description of the scope is dispositive.⁵

⁵ For the full scope language, see the Initiation and Preliminary Results PDM at 2-3.

Final Results of Changed Circumstances Review

Because the record contains no information or evidence that calls into question the Initiation and Preliminary Results, and because we received no comments from interested parties to the contrary, for the reasons stated in the Initiation and Preliminary Results,⁶ Commerce finds that BFN is the successor-in-interest to Bebitz.

⁶ For a complete discussion of the information that BFI provided, including business proprietary information, and Commerce's complete successor-in-interest analysis, see the Initiation and Preliminary Results PDM.

Instructions to U.S. Customs and Border Protection

As a result of these final results and consistent with established practice, we find that, as the successor-in-interest to Bebitz, entries of flanges from India produced and/or exported by BFN should be subject to the cash deposit rate previously assigned to Bebitz. Commerce will instruct U.S. Customs and Border Protection to suspend liquidation of all shipments of subject merchandise produced and/or exported by BFN and entered, or withdrawn from warehouse, for consumption on or after the publication date of this notice in the Federal Register at 0.00 percent, which is the current AD cash deposit rate in effect for subject merchandise produced and/or exported by Bebitz.⁷ This cash deposit rate shall remain in effect until further notice.

⁷ See Finished Carbon Steel Flanges from India: Final Results of Antidumping Duty Administrative Review; 2019-2020, 87 FR 13703, 13704 (March 10, 2020).

Administrative Protective Order

This notice serves as a final reminder to parties subject to administrative protective order (APO) of their responsibility concerning the disposition of proprietary information disclosed under APO in accordance with 19 CFR 351.305(a)(3). Timely written notification of the return/destruction of APO materials or conversion to judicial protective order is hereby requested. Failure to comply with the regulations and terms of an APO is a sanctionable violation.

Notification to Interested Parties

We are issuing and publishing these final results in accordance with sections 751(b)(1) and 777(i)(1) of the Tariff Act of 1930, as amended, and 19 CFR 351.216(e), 351.221(b), and 351.221(c)(3).

Dated: July 20, 2022.
Lisa W. Wang,
Assistant Secretary for Enforcement and Compliance.

[FR Doc. 2022-16027 Filed 7-25-22; 8:45 am]

BILLING CODE 3510-DS-P